DEPARTMENT OF THE INTERIOR

Bureau of Land Management

[CA-610-04-1220-AA]

Notice of Cancellation for a Meeting of the California Desert District Advisory Council

SUMMARY: Notice is hereby given, in accordance with Public Laws 92-463 and 94-579, that the California Desert District Advisory Council to the Bureau of Land Management, U.S. Department of the Interior, has cancelled the field tour of the BLM-administered public lands on Friday, April 23, 2004, and the public meeting on Saturday, April 24, at the Needles City Council Chambers, located 1111 Bailey, Needles, California. The public will be notified when the meeting has been rescheduled.

FOR FURTHER INFORMATION CONTACT: Doran Sanchez, BLM California Desert District Public Affairs Specialist (909) 697-5220.

Dated: March 15, 2004.
Linda Hansen,
District Manager.

[FR Doc. 04-6330 Filed 3-19-04; 8:45 am]

BILLING CODE 4310-40-P